Title 3—

The President

Proclamation 8813 of May 2, 2012

Jewish American Heritage Month, 2012

By the President of the United States of America

A Proclamation

Three hundred and fifty-eight years ago, a band of 23 Jewish refugees fled Recife, Brazil, beset by bigotry and oppression. For them, receding shores marked the end of another chapter of persecution for a people that had been tested from the moment they came together and professed their faith. Yet, they also marked a new beginning. When those men, women, and children landed in New Amsterdam—what later became New York City—they found not only safe haven, but early threads of a tradition of freedom and opportunity that would forever bind their story to the American story.

Those 23 believers led the way for millions to follow. During the next three centuries, Jews around the world set out to build new lives in America—a land where prosperity was possible, where parents could give their children more than they had, where families would no longer fear the specter of violence or exile, but live their faith openly and honestly. Even here, Jewish Americans bore the pains of hardship and hostility; yet, through every obstacle, generations carried with them the deep conviction that a better future was within their reach. In adversity and in success, they turned to one another, renewing the tradition of community, moral purpose, and shared struggle so integral to their identity.

Their history of unbroken perseverance and their belief in tomorrow’s promise offers a lesson not only to Jewish Americans, but to all Americans. Generations of Jewish Americans have brought to bear some of our country’s greatest achievements and forever enriched our national life. As a product of heritage and faith, they have helped open our eyes to injustice, to people in need, and to the simple idea that we might recognize ourselves in the struggles of our fellow men and women. These principles led Jewish advocates to fight for women’s equality and workers’ rights, and to preach against racism from the bimah; they inspired many to lead congregants on marches to stop segregation, help forge unbreakable bonds with the State of Israel, and uphold the ideal of “tikkun olam”—our obligation to repair the world. Jewish Americans have served heroically in battle and inspired us to pursue peace, and today, they stand as leaders in communities across our Nation.

More than 300 years after those refugees first set foot in New Amsterdam, we celebrate the enduring legacy of Jewish Americans—of the millions who crossed the Atlantic to seek out a better life, of their children and grandchildren, and of all whose belief and dedication inspires them to achieve what their forebears could only imagine. Our country is stronger for their contributions, and this month, we commemorate the myriad ways they have enriched the American experience.

NOW, THEREFORE, I, BARACK OBAMA, President of the United States of America, by virtue of the authority vested in me by the Constitution and the laws of the United States, do hereby proclaim May 2012 as Jewish American Heritage Month. I call upon all Americans to visit www.JewishHeritageMonth.gov to learn more about the heritage and contributions of Jewish Americans and to observe this month with appropriate programs, activities, and ceremonies.

IN WITNESS WHEREOF, I have hereunto set my hand this second day of May, in the year two thousand twelve, and of the Independence of the United States of America the two hundred and thirty-sixth.

[FR Doc. 2012-11134

Filed 5-4-12; 11:15 am]

Billing code 3295-F2-P